FEDERAL MARITIME COMMISSION

Ocean Transportation Intermediary License; Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel Operating Common Carrier Ocean Transportation Intermediary Applicants

ORO Cargo Express Corp., 1735 NW 21st Street, Miami, FL 33142. Officers: Osman O. Orozco, President, (Qualifying Individual), Orlando Orozco, Vice President.

Mejia Cargo Express, Inc., 1370 Palm Ave., Hialeah, FL 33010. Officer: Mauren Jeannet Horney, President, (Qualifying Individual).

Atlantic Global, LLC, 125 Wexford Way, Basking Ridge, NJ 07920. Officer: Jeff C. Lelchuk, President, (Qualifying Individual).

Trans Knights, Inc., 301 W. Valley Blvd., Suite #203, San Gabriel, CA 91776. Officer: Rachel Zhu, CEO, (Qualifying Individual).

Non-Vessel Operating Common Carrier and Ocean Freight Forwarder Transportation Intermediary Applicants

United Transport Services Intl., Inc., 8013 NW 66th Street, Miami, FL 33166. Officers: Eduardo De Quesada, President, (Qualifying Individual), Jose Ricardo Ospina, Vice President.

Day Freight International, Inc., 2238 Larch Street, Wantagh, NY 11793. Officer: Elizabeth A. Day, CEO, (Qualifying Individual).

CIMA Cargo Corp., 14270 S.W. 33rd Street, Miami, FL 33172. Officer: Maribel Moreira, President, (Qualifying Individual).

Ocean Freight Forwarder—Ocean Transportation Intermediary Applicants

Argosy International Inc., 225 West 34th Street, Suite 508, New York, NY 10122. Officers: William D. McCutchen, V.P., Supply Chain Mgr., (Qualifying Individual), William Justice, V.P. Gen. Mgr.

MG Forwarding, LLC, 2919 SW 17th Street, Miami, FL 33145. Officer: Mariana Gonzalez, President, (Qualifying Individual).

Amid Logistics, LLC, 2275 East Highway 100, Bldg. 11H, Bunnel, FL 32110. Officer: Dmitriy S. Deych, Director, (Qualifying Individual).

Dated: August 31, 2007.
Bryant L. VanBrakle,
Secretary.

[FR Doc. E7-17613 Filed 9-5-07; 8:45 am]

BILLING CODE 6730-01-P